DEPARTMENT OF AGRICULTURE

Rural Utilities Service

Basin Electric Power Cooperative, Inc.: Notice of Intent To Prepare a Supplemental Draft Environmental Impact Statement

AGENCY: Rural Utilities Service, USDA.

ACTION: Notice of Intent To Prepare a Supplemental Draft Environmental Impact Statement.

SUMMARY: The Rural Utilities Service (RUS), an agency within the U.S. Department of Agriculture (USDA), intends to prepare a supplemental draft environmental impact statement (SDEIS) for Basin Electric Power Cooperative's (Basin Electric) proposed Antelope Valley Station (AVS) to Neset 345-kV Transmission Project (Project) in North Dakota. RUS is issuing this Notice of Intent (NOI) to inform the public and interested parties about a change in the proposed Project and invite the public to comment on the scope, proposed action, and other issues to be addressed in the SDEIS.

RUS made the decision to prepare an SDEIS for the AVS Project to evaluate significant project changes. These changes are due to an increase in the electric load forecast for western North Dakota which is changing the scope of the project. To accommodate this change, the SDEIS will evaluate a new alternative for the transmission line.

The SDEIS will address the construction, operation, and maintenance of Basin Electric's proposed Project. The Project includes construction, operation and maintenance of approximately 275 miles of new 345-kV single pole transmission line (approximately 85 miles more than the project identified in the Draft Environmental Impact Statement (EIS)), 230-kV single pole transmission line and double circuit 345/115-kV transmission lines, 5 new substations, modifications to 4 existing substations, maintenance access roads, temporary construction roads, river crossings, temporary construction staging sites, and other facilities to be described in the SDEIS. Basin Electric's proposed Project would be located in portions of Dunn, McKenzie, Mercer, Mountrail, and Williams counties in western North Dakota.

Portions of Basin Electric's proposed Project may affect floodplains and wetlands. This NOI also serves as a notice of proposed floodplain or wetland action. RUS will hold public hearing meetings to share information and receive comments on the SDEIS.

FOR FURTHER INFORMATION CONTACT: For information on the proposed Project, the SDEIS process, and RUS financing, contact Mr. Dennis Rankin, Engineering and Environmental Staff, Rural Utilities Service, 1400 Independence Avenue SW., Stop 1571, Washington, DC 20250-1571, telephone: (202) 720-1953, or email: dennis.rankin@wdc.usda.gov. Parties wishing to be placed on the Project mailing list for future information and to receive copies of the SDEIS and the Final EIS when available should also contact Mr. Rankin.

SUPPLEMENTARY INFORMATION: RUS is authorized to make loans and loan guarantees that finance the construction of electric distribution, transmission, and generation facilities, including system improvements and replacements required to furnish and improve electric service in rural areas, as well as demand side management, energy conservation programs, and on-grid and off-grid renewable energy systems. Based on an interconnection with the Western Area Power Administration's (Western) transmission system, Western has in accordance with 40 CFR 1501.6, requested to serve as a cooperating agency for the environmental review of the proposed Project.

Basin Electric is a regional wholesale electric generation and transmission cooperative owned and controlled by its member cooperatives. Basin Electric serves approximately 2.5 million customers covering 430,000 square miles in portions of nine states, including Colorado, Iowa, Minnesota, Montana, Nebraska, New Mexico, North Dakota, South Dakota, and Wyoming.

Project Description: Basin Electric has identified the need for additional electric transmission capacity in northwestern North Dakota as a result of increased demand and to meet reliability and system stability requirements for the region. Investigations and analyses conducted for the overall power delivery systems found that without improvements, the flow of power along existing lines may result in local line overloads, especially in the vicinity of Williston, North Dakota.

To resolve these issues, Basin Electric is proposing to construct, own and operate a new 345-kV transmission line and associated supporting infrastructure. The entire Project will consist of constructing approximately 275 miles of new single circuit 345-kV (approximately 85 miles more than the project identified in the Draft EIS), 230-kV and double circuit 345/115-kV transmission lines, the construction of 5 new substations, modifications to 4 existing substations, maintenance access roads, temporary construction roads, river crossings, temporary construction staging sites, and other facilities. The Project would connect to the Integrated System at several locations, including Western's Williston Substation. The proposed Project would be located in portions of Dunn, McKenzie, Mercer, Mountrail, and Williams counties in western North Dakota.

Basin Electric has requested financial assistance for the proposed Project from RUS. Completing the EIS is one of RUS's requirements in processing Basin Electric's application, along with other technical and financial considerations.

In accordance with 40 CFR 1501.5(b) on the Council of Environmental Quality's Regulation for Implementing the Procedural Provisions of the National Environmental Policy Act, RUS will serve as the lead agency in the preparation of the EIS.

The proposed Project is subject to the jurisdiction of the North Dakota Public Service Commission (NDPSC), which has regulatory authority for siting electrical transmission facilities within the State. Basin Electric will submit applications for NDPSC Transmission Corridor and Route Permits. The NDPSC Permits would authorize Basin Electric to construct the proposed Project under North Dakota rules and regulations.

RUS intends to prepare a SDEIS and Final EIS to analyze the impacts of its respective federal actions and the proposed Project in accordance with the National Environmental Policy Act (NEPA), as amended, Council on Environmental Quality (CEQ) Regulation for Implementing the Procedural Provisions of the NEPA (40 CFR parts 1500-1508), DOE NEPA Implementing Procedures (10 CFR part 1021), and RUS Environmental Policies and Procedures (7 CFR part 1794). RUS has already produced a Draft EIS which was released to the public on December 7, 2012 and can be found on the World Wide Web at http://www.rurdev.usda.gov/UWP-AVS-Neset.html.

Because the proposed Project may involve action in floodplains or wetlands, this NOI also serves as a notice of proposed floodplain or wetland action. The SDEIS will include a floodplain/wetland assessment and, if required, a floodplain/wetland statement of findings will be issued with the Final EIS.

Agency Responsibilities: RUS is serving as the lead Federal agency, as defined at 40 CFR 1501.5, for preparation of the SDEIS. Western Area Power Administration and the U.S. Forest Service are participating as cooperating agencies and will be issuing decisions relevant to the project under separate authorities.

Public Participation: Public participation and full disclosure are planned for the entire EIS process. The EIS process has included a scoping comment period to solicit comments from interested parties; publication of a DEIS and public hearing and comment period; consultation and involvement with appropriate Federal, State, local, and tribal governmental agencies. In addition, public review and hearings on the SDEIS will be scheduled on the fall followed by publication of a final EIS; and publication of a Record of Decision. Expected EIS completion date is March 2014. Additional informal public meetings may be held in the proposed Project areas, if public interest and issues indicate a need. If additional public meetings are determined to be necessary public notices will be published as appropriate.

RUS will hold open-house public hearing meetings once the SDEIS is published. The times and locations of these meetings will be well-advertised in local media outlets a minimum of 15 days prior to the time of the meetings. Attendees will be welcome to come and go at their convenience and provide written or oral comments on the Project. In addition, attendees may provide written comments by letter, fax, email.

Dated: July 18, 2013.
Mark S. Plank,
Director, Engineering and Environmental Staff, Rural Utilities Service.

[FR Doc. 2013-19956 Filed 8-15-13; 8:45 am]

BILLING CODE P